DEPARTMENT OF DEFENSE

Office of the Inspector General; Privacy Act of 1974; System of Records

AGENCY: Office of the Inspector General, DoD.

ACTION: Notice to amend and delete systems of records.

SUMMARY: The Office of the Inspector General, DoD, is deleting two systems of records notices and amending three systems of records notice in its existing inventory of record systems subject to the Privacy Act of 1974, (5 U.S.C. 552a), as amended.

DATES: This proposed action will be effective without further notice on July 16, 2003 unless comments are received which result in a contrary determination.

ADDRESSES: Send comments to Office of the Inspector General, Department of Defense, 400 Army Navy Drive, Room 201, Arlington, VA 22202-4704.

FOR FURTHER INFORMATION CONTACT: Mr. Darryl R. Aaron at (703) 604-9785.

SUPPLEMENTARY INFORMATION: The Office of the Inspector General, DoD, systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: June 5, 2003.
Patricia L. Toppings,
Alternate OSD Federal Register Liaison Officer, Department of Defense.

Deletion

CIG-02

SYSTEM NAME:

Applicant Records (February 22, 1993, 58 FR 10213).

Reason: These records are being maintained under the Office of Personnel Management Government-Wide Privacy Act systems of records notices. Therefore, the Inspector General, DoD is deleting its system of records notice.

CIG-12

System name:

Drug Free Workplace Records (February 22, 1993, 58 FR 10213).

Reason: These records are being maintained under the Office of Personnel Management Government-Wide Privacy Act systems of records notices. Therefore, the Inspector General, DoD is deleting its system of records notice.

Amendment

CIG-01

SYSTEM NAME:

Privacy Act and Freedom of Information Act Case Files (April 3, 2003, 68 FR16264).

Changes

* * * * *

SYSTEM LOCATION:

Delete entry and replace with ‘Freedom of Information and Privacy Act Office, Office of Communications and Congressional Liaison, Office of the Inspector General of the Department of Defense, 400 Army Navy Drive, Arlington, VA 22202-4704.’

* * * * *

CIG-01

SYSTEM NAME:

Privacy Act and Freedom of Information Act Case Files.

SYSTEM LOCATION:

Freedom of Information and Privacy Act Office, Office of Communications and Congressional Liaison, Office of the Inspector General of the Department of Defense, 400 Army Navy Drive, Arlington, VA 22202-4704.

CATEGORIES OF INDIVIDUALS COVERED BY THE SYSTEM:

All individuals who submit Freedom of Information Act (FOIA) and Privacy Act (PA) requests and administrative appeals to the Office of the Inspector General (OIG), DoD and other activities receiving administrative FOIA and Privacy Act support from the OIG; individuals whose FOIA and Privacy Act requests and/or records have been referred by other Federal agencies to the OIG for release to the requester; attorneys representing individuals submitting such requests and appeals, individuals who are the subjects of such requests and appeals, and/or the OIG personnel assigned to handle such requests and appeals.

CATEGORIES OF RECORDS IN THE SYSTEM:

Records created or compiled in response to FOIA and Privacy Act requests and administrative appeals, i.e., original requests and administrative appeals; responses to such requests and administrative appeals; all related memoranda, correspondence, notes, and other related or supporting documentation; and copies of requested records and records under administrative appeal.

AUTHORITY FOR MAINTENANCE OF THE SYSTEM:

5 U.S.C. 301, Departmental Regulations; 5 U.S.C. 552a, as amended; DoD 5400.11-R, Department of Defense Privacy Program; 5 U.S.C. 552, The Freedom of Information Act, as amended; and DoD 5400.7-R, DoD Freedom of Information Act Program.

PURPOSE(s):

Information is being collected and maintained for the purpose of processing FOIA and Privacy Act requests and administrative appeals; for participating in litigation regarding agency action on such requests and appeals; for amendment to records made under the Privacy Act and to document OIG actions in response to these requests; and for assisting the Office of the Inspector General, DoD in carrying out any other responsibilities under the FOIA.

Also, information may be provided to the appropriate OIG element when further action is needed to verify assertions of the requester or to obtain permission to release information obtained from sources.

Routine uses of records maintained in the system, including categories of users and the purposes of such uses: In addition to those disclosures generally permitted under 5 U.S.C. 552a(b) of the Privacy Act, these records or information contained therein may specifically be disclosed outside the DoD as a routine use pursuant to 5 U.S.C. 552a(b)(3) as follows:

Information from this system may be provided to other Federal agencies and state and local agencies when it is necessary to coordinate responses or denials.

The DoD ‘Blanket Routine Uses’ set forth at the beginning of the OIG's compilation of systems of records notices also apply to this system.

POLICIES AND PRACTICES FOR STORING, RETRIEVING, ACCESSING, RETAINING, AND DISPOSING OF RECORDS IN THE SYSTEM:

STORAGE:

Paper records in file folders and on electronic storage media.

RETRIEVABILITY:

Retrieved by individual's name, subject matter, date of document, and request number.

SAFEGUARDS:

Records are stored in locked security containers accessible only to authorized personnel.

RETENTION AND DISPOSAL:

FOIA and Privacy Act paper records that are granted in full are destroyed 2 years after the date of reply. Paper records that are denied in whole or part, no records responses, responses to requesters who do not adequately describe records being sought, do not state a willingness to pay fees, and records which are appealed or litigated, are destroyed 6 years after final FOIA action and 5 years after final Privacy Act action, or three years after final adjudication by courts, whichever is later. Electronic records are deleted within 180 or when no longer needed to support office business needs.

SYSTEM MANAGER(S) AND ADDRESS:

Chief, Freedom of Information Act and Privacy Act Office, Office of Communications and Congressional Liaison, Office of the Inspector General, DoD, 400 Army Navy Drive, Arlington, VA 22202-4704.

NOTIFICATION PROCEDURE:

Individuals seeking to determine whether information about themselves is contained in this system should address written inquiries to the Chief, Freedom of Information Act and Privacy Act Office, Office of Communications and Congressional Liaison, Office of the Inspector General, DoD, 400 Army Navy Drive, Arlington, VA 22202-4704.

Please include full information regarding the previous request such as date, subject matter, and if available, copies of the previous OIG reply.

RECORD ACCESS PROCEDURES:

Individuals seeking access to information about themselves contained in this system should address written inquiries to the Chief, Freedom of Information Act and Privacy Act Office, Office of Communications and Congressional Liaison, Office of the Inspector General, DoD, 400 Army Navy Drive, Arlington, VA 22202-4704.

Please include full information regarding the previous request such as date, subject matter, and if available, copies of the previous OIG reply.

CONTESTING RECORD PROCEDURES:

The OIG's rules for accessing records and for contesting contents and appealing initial agency determinations are published in 32 CFR part 312 or may be obtained from the system manager.

RECORD SOURCE CATEGORIES:

From the individuals on whom records are maintained and official records.

EXEMPTIONS CLAIMED FOR THE SYSTEM:

During the course of a FOIA and Privacy Act action, exempt materials from other systems of records may in turn become part of the case records in this system. To the extent that copies of exempt records from those ‘other” systems of records are entered into this FOIA or Privacy Act case record, Office of the Inspector General hereby claims the same exemptions for the records from those ‘other” systems that are entered into this system, as claimed for the original primary systems of records which they are a part.

An exemption rule for this system has been promulgated in accordance with requirements of 5 U.S.C. 553(b)(1), (2), and (3), (c) and (e) and published in 32 CFR part 312. For additional information contact the system manager.

CIG-13

System name:

Travel and Transportation System (February 22, 58 FR 10213).

* * * * *

Changes:

* * * * *

System location:

Delete entry and replace with ‘Chief, Travel Branch, Administrative Services Division, Office of the Inspector General of the Department of Defense, 400 Army Navy Drive, Arlington, VA 22202-4704.’

* * * * *

Purpose(s):

Delete ‘(including Blanket Travel Orders)’.

* * * * *

Retention and disposal:

Delete entry and replace with ‘Records are maintained in a active status for the current fiscal year. Records are destroyed after six years after the period of the account.’

System manager(s) and address:

Delete entry and replace with ‘Chief, Travel Branch, Administrative Services Division, Office of the Inspector General of the Department of Defense, 400 Army Navy Drive, Arlington, VA 22202-4704.’

* * * * *

CIG-13

System name:

Travel and Transportation System.

System location:

Chief, Travel Branch, Administrative Services Division, Office of the Inspector General of the Department of Defense, 400 Army Navy Drive, Arlington, VA 22202-4704.

Categories of individuals covered by the system:

All current and former Office of the Inspector General employees who participate or who are eligible to participate in OIG Temporary Duty (TDY) and Permanent Change of Station (PCS) Travel.

Categories of records in the system:

Records consist of name, Social Security Number, title, grade and series/rank of employee, and travel order number.

Authority for maintenance of the system:

5 U.S.C. 301, Departmental Regulations; 5 U.S.C. Chapter 57, Travel, Transportation, and Subsistence; DoD Directive 4500.9-R, Defense Transportation Regulation, Parts I-VI of the Joint Federal Travel Regulation Volume I and the Joint Travel Regulation, Volume II; DoD Directive 5106.1, Inspector General of the Department of Defense (IG, DOD); DoD Instruction 4500.42, DoD Passenger Transportation Reservation and Ticketing Services; OIG Instruction 5400.42, IG Travel and Transportation Program; OIG Manual 4500.42, OIG Travel Manual; and E.O. 9397 (SSN).

Purpose(s):

Information in this system will be used to issue travel orders for TDY and PCS travel; to track travel performed in accordance with budgetary requirements; and to track travel vouchers submitted for reimbursement of travel; and to alert authorities to any discrepancies in travel performed by OIG employees.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ set forth at the beginning of the OIG's compilation of systems of records notices also apply to this system.

Policies, and practices for storing, retrieving, accessing and disposing of records in the system:

Storage:

Paper records are stored in an automated file server and automated records on computer disks.

Retrievability:

Records are retrieved by name, Social Security Number or travel order number.

Safeguards:

The system is accessible only by authorized personnel on a need-to-know basis. Access to the automated file server is by assigned password restricted to only those individuals requiring access to the system module in connection with their official duties. Access to the area is through a cipher locked room with the code provided only on a need-to-know basis. Computer disks and paper records are stored in locked file cabinets residing in a monitored area which is locked after normal business hours.

Retention and disposal:

Records are maintained in an active status for the current fiscal year. Records are destroyed after six years after the period of the account.

System manager(s) and address:

Chief, Travel Branch, Administrative Services Division, Office of the Inspector General of the Department of Defense, 400 Army Navy Drive, Arlington, VA 22202-4704.

Notification procedure:

Individuals seeking to determine whether this system of records contains information about themselves should address written inquiries to the Chief, Freedom of Information Act/Privacy Act Office, 400 Army Navy Drive, Arlington, VA 22202-4704.

The request should contain their full name, Social Security Number, current home address and telephone number, and if authorizing someone to represent them, a statement to that effect.

Record access procedures:

Individuals seeking access to records about themselves contained in this system of records should address written requests to the Chief, Freedom of Information Act/Privacy Act Office, 400 Army Navy Drive, Arlington, VA 22202-4704.

The request should contain the full name of the individual, non-duty mailing address and daytime telephone number, and if authorizing someone to represent them, a statement to that effect.

Contesting record procedures:

The OIG's rules for accessing records and for contesting contents and appealing initial agency determinations are published in 32 CFR part 312 or may be obtained from the system manager.

Record source categories:

Data is obtained directly from the individual on Inspector General Form 7750.50-4, Request for Temporary Duty Travel Form; Request for Permanent change of Station Form; and computer tape of the OIG Personnel Listing.

EXEMPTIONS CLAIMED FOR THE SYSTEM:

None.

CIG-17

SYSTEM NAME:

Voluntary Leave Transfer Program Records (December 1, 1998, 63 FR 66128).

Changes

* * * * *

SYSTEM LOCATION:

Delete entry and replace with ‘Human Resources Directorate, Office of the Inspector General of the Department of Defense, 400 Army Navy Drive, Arlington, VA 22202-4704.’

CATEGORIES OF RECORDS IN THE SYSTEM:

Delete entry and replace with ‘Leave recipient records contain the individual’s name, organization, office telephone number, Social Security Number, position title, grade, pay level, leave balances, number of hours requested, brief description of the medical or personal hardship which qualifies the individual for inclusion in the program, and the status of that hardship.’

The file may also contain medical or physician certifications and agency approvals or denials.

Donor records include the individual's name, organization, office telephone number, Social Security Number, position title, grade and pay level, leave balances, number of hours donated, the name of the designated recipient.

* * * * *

PURPOSE(s):

Delete first sentence and replace with ‘The file is used in managing the Office of the Inspector General, Department of Defense, Voluntary Leave Transfer Program.’

* * * * *

SYSTEM MANAGER(S) AND ADDRESS:

Delete entry and replace with ‘Director, Human Resources Directorate, Office of the Inspector General of the Department of Defense, 400 Army Navy Drive, Arlington, VA 22202-4704.’

* * * * *

CIG-17

SYSTEM NAME:

Voluntary Leave Transfer Program Records.

SYSTEM LOCATION:

Human Resources Directorate, Office of the Inspector General of the Department of Defense, 400 Army Navy Drive, Arlington, VA 22202-4704.

CATEGORIES OF INDIVIDUALS COVERED BY THE SYSTEM:

Individuals who have volunteered to participate in the leave transfer program as either a donor or a recipient.

CATEGORIES OF RECORDS IN THE SYSTEM:

Leave recipient records contain the individual’s name, organization, office telephone number, Social Security Number, position title, grade, pay level, leave balances, number of hours requested, brief description of the medical or personal hardship which qualifies the individual for inclusion in the program, and the status of that hardship.

The file may also contain medical or physician certifications and agency approvals or denials.

Donor records include the individual's name, organization, office telephone number, Social Security Number, position title, grade, and pay level, leave balances, number of hours donated and the name of the designated recipient.

AUTHORITY FOR MAINTENANCE OF THE SYSTEM:

5 U.S.C. 6331 et seq., Leave; 5 CFR part 630, Absence and Leave; IG Instruction 1424.630, Leave Administration Policy and Procedures; and E.O. 9397 (SSN).

PURPOSE(s):

The file is used in managing the Office of the Inspector General, Department of Defense, Voluntary Leave Transfer Program. The recipient's name, position data, organization, and a brief hardship description are published internally for passive solicitation purposes. The Social Security Number is sought to effectuate the transfer of leave from the donor's account to the recipient's account.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552(a)(b)(3) as follows:

To the Department of Labor in connection with a claim filed by an employee for compensation due to a job-connected injury or illness; where leave donor and leave recipient are employed by different Federal agencies, to the personnel and pay offices of the Federal agency involved to effectuate the leave transfer.

The DoD ‘Blanket Routine Uses’ set forth at the beginning of the OIG's compilation of systems of records notices also apply to this system.

POLICIES AND PRACTICES FOR STORING, RETRIEVING, ACCESSING, RETAINING, AND DISPOSING OF RECORDS IN THE SYSTEM:

STORAGE:

Records are stored in paper and computerized form.

RETRIEVABILITY:

Records are retrieved by name or Social Security Number.

Safeguards:

Records are accessed by custodian of the records or by persons responsible for servicing the record system in performance of their official duties. Records are stored in locked cabinets or rooms and are controlled by personnel screening and computer software.

Retention and disposal:

Records are destroyed one year after the end of the year in which the file is closed.

System manager(s) and address:

Director, Human Resources Directorate, Office of the Inspector General of the Department of Defense, 400 Army Navy Drive, Arlington, VA 22202-4704.

Notification procedure:

Individuals seeking to determine whether this system of records contains information about themselves should address written inquiries to the Chief, Freedom of Information Act/Privacy Act Office, 400 Army Navy Drive, Arlington, VA 22202-4704.

Individual should provide full name and Social Security Number.

Record access procedures:

Individuals seeking access to records about themselves contained in this system of records should address written inquires to the Privacy Act Officer at the address above.

Individual should provide full name and Social Security Number.

Contesting record procedures:

The OIG's rules for accessing records, and for contesting contents and appealing initial agency determinations are published in 32 CFR part 312 and may be obtained from the system manager.

Record source categories:

Information is provided primarily by the record subject; however, some data may be obtained from personnel and leave records.

Exemptions claimed for the system:

None.

CIG 18

System name:

Grievance Records (February 16, 1999, 64 FR 7632).

Changes

* * * * *

System location:

Records are maintained in the Human Resources Directorate, Office of the Inspector General of the Department of Defense, 400 Army Navy Drive, Arlington, VA 22202-4704.

System manager(s) and address:

Delete entry and replace with ‘Director, Human Resources Directorate, Office of the Inspector General of the Department of Defense, 400 Army Navy Drive, Arlington, VA 22202-4704.’

* * * * *

CIG 18

System name:

Grievance Records (February 16, 1999, 64 FR 7632).

System location:

Records are maintained by the personnel office of the Office of the Inspector General, DoD, Personnel and Security Directorate, Employee Relations Division, 400 Army Navy Drive, Suite 512, Arlington, VA 22202-2884.

Categories of individuals covered by the system:

Current or former Inspector General, Department of Defense employees who have submitted grievances in accordance with 5 CFR Part 771, DoD Directive 1400.25-M Subchapter 771 and DoD Inspector General Instruction 1400.5.

Categories of records in the system:

The case files contain all documents related to grievances including reports of interviews and hearings, examiner’s findings and recommendations, copy of the original and final decision, and related correspondence and exhibits.

Authority for maintenance of the system:

5 U.S.C. 2302, Prohibited personnel practices; 5 U.S.C. 7121, Grievance procedures; 5 CFR part 771; DoD 1400.25-M, Subchapter 771, Administrative Grievance System; DoD Inspector General Instruction 1400.5; and E.O. 9397 (SSN).

Purpose(s):

The information will be used by the Inspector General, Department of Defense to control and process grievances; to investigate the allegations; conduct interviews; and render the final decision.

Routine uses of records maintained in the system, including categories of users and the purposes of such uses:

In addition to those disclosures generally permitted under 5 U.S.C. 552a(b) of the Privacy Act, these records or information contained therein may specifically be disclosed outside the DoD as a routine use pursuant to 5 U.S.C. 552(a)(b)(3) as follows:

To disclose information to any source from which additional information is requested in the course of processing a grievance, to the extent necessary to identify the individual, inform the source of the purpose(s) of the request, and identify the type of information requested.

To disclose in response to a request for discovery or for appearance of a witness, information that is relevant to the subject matter involved in a pending judicial or administrative proceeding.

To provide information to officials of labor organization reorganized under the Civil Service Reform Act when relevant and necessary to their duties, exclusive representation concerning personnel policies, practices, and matter affecting work conditions.

Policies and practices for storing, retrieving, accessing retaining and disposing of records in the system:

Storage:

Records are stored in paper form.

Retrievability:

Records are retrieved by names of the individuals on whom the records are maintained.

Safeguards:

Records are maintained in locked metal file cabinets, to which only OIG, DoD authorized personnel have access.

Retention and disposal:

Records are destroyed four years after the case is closed.

System manager(s) and address:

Director, Human Resources Directorate, Office of the Inspector General of the Department of Defense, 400 Army Navy Drive, Arlington, VA 22202-4704.

Notification procedure:

Individuals seeking to determine whether this system of records contains information about themselves should address written inquiries to the Chief, Freedom of Information Act/Privacy Act Office, 400 Army Navy Drive, Arlington, VA 22202-4704.

Written requests for information should include the full name.

Record access procedures:

Individuals seeking access to records about themselves contained in this system of records should address written inquires to the Privacy Act Officer, Freedom of Information Act/Privacy Act Office, 400 Army Navy Drive, Arlington, VA 22202-4704.

Written requests for information should include the full name.

Contesting record procedures:

The OIG's rules for accessing records, and for contesting contents and appealing initial agency determinations are published in 32 CFR part 312 and may be obtained from the system manager.

Record source categories:

Information is provided by the individual on whom the record is maintained; by testimony of witnesses; by Agency officials; or from related correspondence from organizations or persons.

Exemptions claimed for the system:

None.

[FR Doc. 03-15045 Filed 6-13-03; 8:45 am]

BILLING CODE 5001-08-P